DEPARTMENT OF JUSTICE

Antitrust Division

Notice Pursuant to the National Cooperative Research and Production Act of 1993—Open Core Protocol International Partnership Association, Inc.

Notice is hereby given that, on May 10, 2002, pursuant to section 6(a) of the National Cooperative Research and Production Act of 1993, 15 U.S.C. 4301 et seq., (“the Act”), OCP International Partnership Association, Inc. (“OCP-IP”) has filed written notifications simultaneously with the Attorney General and the Federal Trade Commission disclosing (1) the identifies of the parties and (2) the nature and objectives of the venture. The notifications were filed for the purpose of invoking the Act's provisions limiting the recovery of antitrust plaintiffs to actual damages under specified circumstances. Pursuant to section 6(b) of the Act, the identity of the only party at this time is Easterel Technologies, Inc., Guyancourt, FRANCE. OCP-IP is dedicated to addressing problems relating to design, verification and testing which are common to IP core reuse in “plug and play” system-on-chip designs. OCP-IP intends to undertake cooperative research, development, formulation and experimentation activities concerning these problems and the “open core protocol” for system-on-chip design. The nature and objectives are to (a) provide a forum for industry participants to contribute to the development and promote the evolution of the “open core protocol” for the system-on-chip products; (b) to develop conformance standards and tests for determining compliance with the “open core protocol”; (c) to support the development of products that are compliant with the “open core protocol”; (d) to support, promote and accelerate the acceptance and use of the “open core protocol” for system-on-chip products; and (e) to undertake such other activities as may from time to time be appropriate to further the purposes and achieve the goals set forth above.

Additional information concerning OCP-IP may be obtained from Ian Mackintosh, President of OCP International Partnership Association, Inc., at OCP International Partnership, 5440 SW. Westgate Dr., Suite 217, Portland, OR 97221, (503) 291-2560.

Constance K. Robinson,
Director of Operations, Antitrust Division.

[FR Doc. 02-15237 Filed 6-17-02; 8:45 am]

BILLING CODE 4410-11-M